DEPARTMENT OF THE INTERIOR

Fish and Wildlife Service

[FWS-R4-R-2008-N0232; 40136-1265-0000-S3]

Wolf Island National Wildlife Refuge, McIntosh County, GA

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Wolf Island National Wildlife Refuge (NWR). In the final CCP, we describe how we will manage this refuge for the next 15 years.

ADDRESSES: A copy of the CCP may be obtained by writing to: Mr. Shaw Davis, Savannah Coastal Refuges' Complex, 1000 Business Center Drive, Parkway Business Center, Suite 10, Savannah, GA 31405. The CCP may also be accessed and downloaded from the Service's Web site: http://southeast.fws.gov/planning.

FOR FURTHER INFORMATION CONTACT: Mr. Shaw Davis; Telephone: 912-652-4030 x 106; fax: 912-652-4385; e-mail: shaw_davis@fws.gov.

SUPPLEMENTARY INFORMATION:

Introduction

With this notice, we finalize the CCP process for Wolf Island NWR. We started this process through a notice in the Federal Register on October 30, 2006 (71 FR 63344). For more about the process, see that notice.

Wolf Island NWR, 12 miles east of Darien, Georgia (by boat), consists of a long narrow strip of oceanfront beach backed by a broad band of salt marsh. Over 75 percent of the refuge's 5,126 acres are composed of saltwater marshes. The refuge was established by Executive Order 5316 on April 3, 1930, when the 538 acres already in government ownership were set aside as a sanctuary for migratory birds. Wolf Island NWR is a designated National Wilderness Area and is maintained as such, with its primary purpose being to provide protection for migratory birds and such endangered and threatened species as the loggerhead sea turtle and piping plover. Due to its Wilderness designation, no public use facilities exist on the refuge. Though the refuge's saltwaters are open to a variety of recreational activities, all beach, marsh, and upland areas are closed to the public.

This three-island wildlife refuge at the mouth of the Altamaha River consists mainly of salt marsh and provides critical sanctuary for rare migrating birds and nursery habitat for sea turtles. Wolf Island, the largest island in the refuge, covers 4,519 acres. Its boundaries are defined by the South River to the north, Little Mud River to the west, Altamaha Sound to the south, and the Atlantic Ocean to the east. The island has only 300 acres of dune and beach along its narrow, 4-mile-long eastern shoreline. It fronts the ocean in the Altamaha River Delta and forms a physical barrier between Doboy Sound to the north and Altamaha Sound to the south. Tucked into the mouth of Altamaha Sound and directly south of Wolf Island are Egg and Little Egg Islands. They consist of 593 and 14 acres in size, respectively, with extensive salt marsh and only 70 acres of upland.

Wolf Island is one of seven refuges administered by the Savannah Coastal Refuges' Complex. This chain of national wildlife refuges extends from Pinckney Island NWR near Hilton Head Island, South Carolina, to Wolf Island NWR near Darien, Georgia. Between these lie Savannah National Wildlife Refuge, the largest unit in the complex, and the Wassaw, Tybee, Harris Neck, and Blackbeard Island National Wildlife Refuges. Together they span a 100-mile coastline that encompasses a total of more than 56,000 acres. The Savannah Coastal Refuges' Complex is administered from a headquarters office in Savannah, Georgia.

We announce our decision and the availability of the final CCP and FONSI for Wolf Island NWR in accordance with the National Environmental Policy Act (NEPA) [40 CFR 1506.6(b)] requirements. We completed a thorough analysis of impacts on the human environment, which we included in the draft comprehensive conservation plan and environmental assessment.

The compatibility determinations for (1) Hunting; (2) fishing; (3) wildlife observation and photography; (4) environmental education and interpretation; and (5) research are also available within the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. Currently, access to the refuge is limited and there is no public access allowed. This restriction limits the above activities to the waters near the refuge. We will review and update the CCP at least every15 years in accordance with the Improvement Act.

Comments

Approximately 200 copies of the Draft CCP/EA were made available for a 30-day public review period as announced in the Federal Register on June 12, 2008 (73 FR 33451). Two written comments were received, one from a private citizen and one from a non-governmental organization. Both commenters supported the Service's management direction.

Selected Alternative

After considering the comments we received and based on the sound professional judgment of the core planning team, we have selected Alternative C for implementation. This alternative is judged to be the most effective management action for meeting the purposes of the refuge by optimizing ecosystem management throughout the refuge. Under Alternative C, the refuge will practice ecosystem management, recognizing the ecological role of Wolf Island NWR within the interrelated Altamaha River Basin and coastal barrier island ecosystem. Human activities and natural processes within these ecosystems influence Wolf Island NWR in a variety of ways. Alternative C explicitly commits the Service to acknowledge these influences and cooperate with other stakeholders in ways that will ensure the continued protection and enhancement of the ecosystem's natural resources.

Under Alternative C, the refuge will strive to optimize its biological program, recognizing that there may be tradeoffs and opportunity costs between the various elements of the biological programs envisioned (it might not be possible to equally pursue and achieve all objectives simultaneously because of budgeting and staffing constraints or because of intrinsic conflicts between certain objectives). However, Alternative C emphasizes a broader ecosystem approach than the optional alternatives, which narrowly focused on the refuge.

The refuge will conduct baseline inventorying and monitoring programs with several partners to investigate threats and opportunities within the ecosystem as they may impact refuge goals and objectives. Resource protection within the ecosystem will be intensified. Control of invasive species will commence and efforts will be made to reduce beach erosion. Service staff will work with partners to manage and improve habitats within the ecosystem.

Authority: This notice is published under the authority of the National Wildlife Refuge System Improvement Act of 1997, Public Law 105-57.

Dated: September 12, 2008.
Cynthia K. Dohner,
Acting Regional Director.

[FR Doc. E8-26370 Filed 11-4-08; 8:45 am]

BILLING CODE 4310-55-P